POSTAL SERVICE

Notice of Availability of Updated Record of Decision for Next Generation Delivery Vehicles Acquisitions

To replace existing delivery vehicles nationwide that have reached the end of their service life, the U.S. Postal Service has determined that it will implement the Preferred Alternative set forth in its September 29, 2023, Final Supplemental Environmental Impact Statement (SEIS). The Preferred Alternative is the purchase and deployment of a mixed fleet of Commercial Off-the-Shelf and Next Generation Delivery Vehicles. Of the total quantity of 106,480 vehicles to be procured under this SEIS, 62 percent would have battery electric powertrains.

This Updated Record of Decision (Updated ROD) supersedes the Record of Decision issued on February 23, 2022, and became effective when it was signed by the Postal Service's Senior Vice President for Facilities and Fleet Management on December 5, 2023.

Interested parties may view the Updated ROD, Final SEIS and all prior NEPA documents related to this procurement at http://uspsngdveis.com/.

References

1. U.S. Postal Service, Notice of Availability of Record of Decision, Next Generation Delivery Vehicles Acquisitions (87 FR 14588; Mar. 15, 2022).

2. U.S. Postal Service, Notice of Intent to Prepare a Supplement to the Next Generation Delivery Vehicles Acquisitions Final Environmental Impact Statement (87 FR 35581; June 10, 2022).

3. U.S. Postal Service, Notice to Postpone Public Hearing and Extend Public Comment Period for Supplement to the Next Generation Delivery Vehicles Acquisitions Final Environmental Impact Statement (87 FR 43561; July 21, 2022).

4. U.S. Postal Service, Notice of Availability of Draft Supplemental Environmental Impact Statement for Next Generation Delivery Vehicles Acquisitions (88 FR 125; June 30, 2023).

5. U.S. Postal Service, Notice of Availability of Final Supplemental Environmental Impact Statement for Next Generation Delivery Vehicles Acquisitions (88 FR 67378; September 29, 2023.

6. U.S. Environmental Protection Agency, Notice of Availability of EIS No. 20230129, Final Supplement, USPS, DC, Next Generation Delivery Vehicle Acquisitions (88 FR 67277; September 29, 2023).

Sarah Sullivan,
Attorney, Ethics & Legal Compliance.

[FR Doc. 2023-27098 Filed 12-8-23; 8:45 am]

BILLING CODE P